DEPARTMENT OF TRANSPORTATION

Surface Transportation Board

[Docket No. FD 35628]

Woodland Rail, LLC—Acquisition and Operation Exemption—Line of Maine Central Railroad Co.

Woodland Rail, LLC (Woodland Rail), a noncarrier, has filed a verified notice of exemption under 49 CFR 1150.31 to acquire and operate a rail line known as the Calais Industrial Track (the Line) from Maine Central Railroad Co. The Line is approximately 11.83 track miles in length, with approximately 6.75 track miles located in Maine, and approximately 5.08 track miles located in New Brunswick, Canada. As Woodland Rail acknowledges in its notice, the jurisdiction of the Board only extends to the acquisition of the portions of the Line within the United States. The end points of the Line are at engineering station 64+17 in Baileyville and engineering station 6978+84 in Calais, in Washington County, Me. The transaction includes a spur track between Woodland Junction, Me., which is engineering station 363+45, and engineering station 393+37, and another spur track at St. Croix Junction, Me., which is engineering station 6817+12.¹

¹ In a related transaction, Woodland Rail has agreed to grant trackage rights to Eastern Maine Railway Co. (EMR) to enable EMR to serve a pulp mill owned and operated by Woodland Pulp, LLC. See E. Me. Ry.—Trackage Rights Exemption—Woodland Rail, LLC, FD 35629 (STB served June 6, 2012).

The earliest this transaction may be consummated is June 20, 2012, the effective date of the exemption.

Woodland Rail certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than June 13, 2012 (at least 7 days before the exemption becomes effective).

An original and 10 copies of all pleadings, referring to Docket No. FD 35628, must be filed with the Surface Transportation Board, 395 E Street SW., Washington, DC 20423-0001. In addition, a copy of each pleading must be served on James E. Howard, 1 Thompson Square, Suite 201, Charlestown, MA 02129.

Board decisions and notices are available on our Web site at www.stb.dot.gov.

Decided: June 1, 2012.
By the Board, Rachel D. Campbell, Director, Office of Proceedings.
Raina S. White,
Clearance Clerk.

[FR Doc. 2012-13702 Filed 6-5-12; 8:45 am]

BILLING CODE 4915-01-P